DEPARTMENT OF COMMERCE

National Oceanic and Atmospheric Administration

RIN 0648-XG248

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, June 5, 2018 through Thursday, June 7, 2018. For agenda details, see SUPPLEMENTARY INFORMATION.

ADDRESSES:

Meeting address: The meeting will be held at the DoubleTree by Hilton Philadelphia Center City, 237 South Broad Street, Philadelphia, PA 19107-5686; telephone: (215) 893-1600.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, though agenda items may be addressed out of order (changes will be noted on the Council's website when possible).

Tuesday, June 5, 2018

Executive Committee (Closed Session)

Advisory Panel Appointments.

Surfclam/Ocean Quahog Committee—Atlantic Surfclam and Ocean Quahog Excessive Shares Amendment

Committee review and approve a range of alternatives for consideration by the Council.

Law Enforcement Reports

Reports will be received from the NOAA Office of Law Enforcement and the U.S. Coast Guard.

Surfclam/Ocean Quahog Specifications

Review Advisory Panel, SSC, and staff recommendations for 2019 specifications and recommend any changes if necessary.

Mackerel Framework—Meeting 2

Take final action on modifications to mackerel closure provisions.

Atlantic Herring Amendment 8 Public Hearing

Public hearing on Amendment 8 to the Atlantic Herring FMP with proposed alternatives to: (1) Establish an acceptable biological catch control rule for Atlantic herring; and (2) address potential localized depletion and user conflicts in the fishery.

Wednesday, June 6, 2018

Chub Mackerel

Update on progress (FMAT, AP, and Committee meetings); approve draft goals and objectives for inclusion in a public hearing document; consider management unit alternatives for consideration by the SSC.

Summer Flounder Commercial Issues Amendment

Review and approve Draft EIS.

Estimating and Reducing the Discard Mortality Rate of Black Sea Bass in Offshore

Recreational Rod-and-Reel Fisheries

Northeast Observer Program

Update on NMFS Climate Strategy and Overview of Recent Research

Mid-Atlantic Coastal Acidification Network Monitoring Plan

Regulatory Review Results

Discuss and approve recommendations for regulatory streamlining.

Thursday, June 7, 2018

Aquaculture in the Northeast

Business Session

Committee Reports (Executive Committee and Surfclam/Ocean Quahog Committee); Executive Director's Report (Update on mackerel rebuilding framework and consider changes to alternatives if necessary); Organization Reports; and Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 17, 2018.
Rey Israel Marquez,
Acting Deputy Director, Office of Sustainable Fisheries, National Marine Fisheries Service.

[FR Doc. 2018-10893 Filed 5-21-18; 8:45 am]

BILLING CODE 3510-22-P